DEPARTMENT OF COMMERCE

National Institute of Standards and Technology

Industrial Advisory Committee

AGENCY: National Institute of Standards and Technology, Department of Commerce.

ACTION: Notice of open meeting.

SUMMARY: The Industrial Advisory Committee (Committee) will hold an open meeting both in-person and via web conference on Thursday, August 1, 2024, from 10:00 a.m. to 3:00 p.m., Eastern Time.

DATES: The Industrial Advisory Committee will meet on Thursday, August 1, 2024, from 10:00 a.m. to 3:00 p.m. Eastern Time. The meeting will be open to the public.

ADDRESSES: The meeting will be held in person and via web conference from the Hubert H. Humphrey Building, located at 200 Independence Avenue SW, Washington, DC, 202201. For instructions on how to attend and/or participate in the meeting, please see the SUPPLEMENTARY INFORMATION section of this notice.

FOR FURTHER INFORMATION CONTACT: Tamiko Ford at Tamiko.Ford@NIST.gov. Tamiko's phone number is (202) 594-6793.

SUPPLEMENTARY INFORMATION: The Committee was established pursuant to 15 U.S.C. 4656(b). The Committee is currently composed of 22 members, appointed by the Secretary of Commerce, to provide advice to the United States Government on matters relating to microelectronics research, development, manufacturing, and policy. Background information on the CHIPS Act and information on the Committee are available at https://www.nist.gov/chips/industrial-advisory-committee.

Pursuant to the Federal Advisory Committee Act, as amended, 5 U.S.C. 1001 et seq. App., notice is hereby given that the Industrial Advisory Committee will have a meeting at the date and time in the DATES section and will be open to the public. The meeting will be open to the public and will be held via web conference. Interested members of the public will be able to participate in the meeting from remote locations. The primary purposes of this meeting are to update the Committee on the progress of the CHIPS R&D Programs, receive updates from the Committee working groups, and allow the Committee to deliberate and discuss the progress that has been made. The final agenda will be posted on the NIST website at https://www.nist.gov/chips/industrial-advisory-committee.

Individuals and representatives of organizations who would like to offer comments and suggestions related to items on the Committee's agenda for this meeting are invited to submit comments in advance of the meeting. Written comments may be submitted via the registration link. Approximately ten minutes will be reserved for public comments. Please note that all submitted comments, including those not read during the meeting, will be treated as public documents and will be made available for public inspection. The Committee will not consider or deliberate upon comments from the public during this period. All those wishing to submit a comment must submit their request and comment via the registration link https://events.nist.gov/profile/web/8399 by 5:00 p.m. Eastern Time, Friday, July 24, 2024.

All visitors to the meeting are required to pre-register to attend. Additional instructions for entry will be provided to registrants. Space is limited, and attendance will be granted on a first-come, first-serve basis during registration. Anyone wishing to attend either in person must register by 5:00 p.m. on July 24, 2024. To attend via web conference you must register by 5:00 p.m. Eastern Time, Friday, July 31, 2024, to attend. Please submit your full name, the organization you represent (if applicable), email address, and phone number via https://events.nist.gov/profile/web/8399. Non-U.S. citizens must submit additional information; please contact Tamiko Ford at Tamiko.Ford@nist.gov.

Alicia Chambers,
NIST Executive Secretariat.

[FR Doc. 2024-15527 Filed 7-15-24; 8:45 am]

BILLING CODE 3510-13-P